DEPARTMENT OF TRANSPORTATION

Maritime Administration

[Docket MARAD-2005-22095]

Farrell Lines Incorporated; Request for Comments Regarding the Proposed Purchase of Royal P & O Nedlloyd, N.V. by A.P. Moller—Maersk A/S and Its Impact on the Maritime Security Program (MSP)

By letter dated August 2, 2005, A.P. Moller—Maersk, A/S (APMM) advised the Maritime Administration of its intention to purchase Royal P & O Nedlloyd, N.V. (PONL). PONL, a Dutch consortium, is the ultimate parent corporation of Farrell Lines Incorporated (Farrell). Farrell has been awarded five new MSP Operating Agreements, Nos. MA/MSP-62 through 66, respectively, for the vessels CHESAPEAKE BAY, DELAWARE BAY, ENDEAVOR, ENDURANCE and ENTERPRISE for the participation of those vessels, or their replacements, in the MSP beginning October 1, 2005.

APMM, a Danish consortium, is the ultimate parent company of Maersk Line, Limited (Maersk). Maersk is currently the holder of 19 MSP Operating Agreements, Nos. MA/MSP-24 through 27 and MA/MSP 29 through 43, covering the operation of the vessels MAERSK MISSOURI, MAERSK VIRGINIA, MAERSK GEORGIA, MAERSK CAROLINA, SEALAND ACHIEVER, SEALAND FLORIDA, SEALAND PRIDE, SEALAND MOTIVATOR, SEALAND COMMITMENT, SEA-LAND ATLANTIC, SEA-LAND CHARGER, MAERSK ALABAMA, SEA-LAND LIGHTNING, SEA-LAND METEOR, MAERSK ARKANSAS, SEA-LAND INTREPID, SEALAND COMET, SEA-LAND PERFORMANCE and SEA-LAND QUALITY, respectively. Maersk has also been awarded 19 new MSP Operating Agreements, Nos. MA/MSP-79 through 97, to continue participation of its vessels in the MSP beginning October 1, 2005.

Implementation of APMM's proposed purchase will place 24 of the 60 vessels authorized under the new MSP program to be implemented on October 1, 2005, under the ownership or control of APMM. It should be noted that Farrell will continue to be the holder of those MSP Operating Agreements it now holds.

The purchase of PONL by APMM will, in effect, transfer ultimate ownership of Farrell from one foreign corporate entity to another. The transaction requires MARAD approval under Farrell's MSP Operating Agreements Nos. MA/MSP-62 through 66. This notice is being published as a matter of discretion. MARAD will consider all comments on this particular application, and the general topic of MSP Operating Agreement transfers, submitted in a timely fashion, and will take such action thereto as may be deemed appropriate.

A redacted copy of this proposal will be available for inspection at the Department of Transportation (DOT) Dockets Facility and on the DOT Dockets website (address information follows). Any person, firm or corporation having an interest in this proposal, and desiring to submit comments concerning the transaction, may file comments as follows. You should mention the docket number that appears at the top of this notice in any submission. Written comments should be submitted to the Docket Clerk, U.S. DOT Dockets, Room PL-401, Nassif Building, U.S. Department of Transportation, 400 Seventh Street, SW., Washington, DC 20590. Comments may also be submitted by electronic means via the Internet at http://dmses.dot.gov/submit/. You may call Docket Management at (202) 366-9324. You may visit the docket room to inspect and copy comments at the above listed address between 10 a.m. and 5 p.m. e.d.t., Monday through Friday, except holidays. An electronic version of this document is available on the World Wide Web at http://dms.dot.gov. Comments must be received by close of business August 25, 2005.

This notice is published as a matter of discretion, and the fact of its publication should in no way be considered a favorable or unfavorable decision on the proposed transaction, as filed, or as it may be amended.

Dated: August 9, 2005.
By Order of the Maritime Administration.
Joel C. Richard,
Secretary, Maritime Administration.

[FR Doc. 05-16012 Filed 8-12-05; 8:45 am]

BILLING CODE 4910-81-P